DEPARTMENT OF EDUCATION

Applications for New Awards; Promoting Postbaccalaureate Opportunities for Hispanic Americans Program

AGENCY: Office of Postsecondary Education, Department of Education.

ACTION: Notice.

SUMMARY: The Department of Education (Department) is issuing a notice inviting applications for new awards for fiscal year (FY) 2024 for the Promoting Postbaccalaureate Opportunities for Hispanic Americans (PPOHA) Program, Assistance Listing Number (ALN) 84.031M. This notice relates to the approved information collection under OMB control number 1894-0006.

DATES:

Applications Available: March 14, 2024.

Deadline for Transmittal of Applications: May 13, 2024.

Deadline for Intergovernmental Review: July 12, 2024.

Deadline for Optional Notice of Intent to Apply: May 3, 2024.

ADDRESSES: For the addresses for obtaining and submitting an application, please refer to our Common Instructions for Applicants to Department of Education Discretionary Grant Programs, published in the Federal Register on December 7, 2022 (87 FR 75045) and available at https://www.federalregister.gov/documents/2022/12/07/2022-26554/common-instructions-for-applicants-to-department-of-education-discretionary-grant-programs.

FOR FURTHER INFORMATION CONTACT: Margarita L. Meléndez, U.S. Department of Education, 400 Maryland Avenue SW, Room 5C125, Washington, DC 20202-4260. Telephone: (202) 987-0408. Email: Margarita.Melendez@ed.gov.

If you are deaf, hard of hearing, or have a speech disability and wish to access telecommunications relay services, please dial 7-1-1.

SUPPLEMENTARY INFORMATION:

Full Text of Announcement

I. Funding Opportunity Description

Purpose of Program: The purposes of the PPOHA Program are to: (1) expand postbaccalaureate educational opportunities for, and improve the academic attainment of, Hispanic students; and (2) expand the postbaccalaureate academic offerings, as well as enhance the program quality, at the institutions of higher education (IHEs) that are educating the majority of Hispanic college students and helping large numbers of Hispanic and low-income students complete postsecondary degrees.

Background: In the fall of 2021, there were approximately 2.8 million U.S. resident students enrolled at the postbaccalaureate level in degree-granting institutions.¹ Of those students, 60 percent were White and only 13 percent were Hispanic.² Furthermore, in 2021, White students received 62.4 percent and 63.4 percent of master's and doctoral degrees, respectively, and Hispanic students received 12.7 percent and 9.7 percent of master's and doctoral degrees, respectively.³

¹ National Center for Education Statistics. (2023). Postbaccalaureate Enrollment. Condition of Education. U.S. Department of Education, Institute of Education Sciences.

² Ibid.

³ National Center for Education Statistics (2023). Fast Facts: Degrees conferred by race/ethnicity and sex. U.S. Department of Education, Institute of Education Statistics.

Hispanic students who enroll and attain credentials beyond a bachelor's degree have increased employment options, which provides the potential for greater financial returns.⁴ In 2021, for example, 49% advanced degree holders earned $100,000 or more, as compared to 7 percent of high school graduates and 35 percent of those whose highest attainment was a bachelor's degree.⁵

⁴ Schak, J.O. and Nichols, A.H. (2017). Education Trust. Degree Attainment for Latino Adults: National and State Trends.

⁵ Ma, J. and Pender, M. (2023). College Board. “Education Pays 2023: The Benefits of Higher Education for Individuals and Society.”

A critical component of student success and college completion for Hispanic students is engagement with diverse faculty members who can serve as mentors.⁶ The impact of the characteristics, insights, and perspectives of diverse faculty has been shown to enhance the teaching, research, and service missions of institutions of higher education.⁷ Diverse faculty increase opportunities for students to encounter readings and research relevant to underrepresented groups.⁸ Increasing Latino faculty has been found to play a critical role in Latino student retention and climate.⁹ In addition, the presence of diverse faculty enhances the college experience by providing a more enriching college experience and a more supportive racial climate to ensure student success.¹⁰ Despite the many benefits of faculty diversity, in the fall of 2021, only six percent of full-time faculty at degree-granting postsecondary institutions were Hispanic,¹¹ while the enrollment rate of Hispanic undergraduate and graduate students was 33 percent.¹²

⁶ Contreras, F., and Contreras, J.G. (2015). Journal of Hispanic Higher Education. “Raising the Bar for Hispanic Serving Institutions: An Analysis of College Completion and Success Rates.”

⁷ Milem, J.F. (2003). Compelling Interest. “The Educational Benefits of Diversity: Evidence from Multiple Sectors.”

⁸ Ibid.

⁹ Contreras, F., and Contreras, J.G. (2015). Journal of Hispanic Higher Education. “Raising the Bar for Hispanic Serving Institutions: An Analysis of College Completion and Success Rates.”

¹⁰ Milem, J.F. (2003). Compelling Interest. “The Educational Benefits of Diversity: Evidence from Multiple Sectors.”

¹¹ Fast Facts (2023): Race/ethnicity of college faculty (ed.gov).

¹² National Center for Education Statistics. (2023). College Enrollment Rates. Condition of Education. U.S. Department of Education, Institute of Education Sciences.

Hispanic adults are also currently underrepresented in the STEM workforce. Hispanic or Latino workers represented 15 percent of the total STEM workforce in 2021,¹³ compared to 18 percent of the total labor workforce.¹⁴ According to labor market data from the Federal Reserve Bank of New York, students who graduate with degrees in the STEM disciplines generally are paid more than students who graduate with non-STEM degrees.¹⁵ The growth in STEM jobs is expected to outpace that of non-STEM jobs in the future.¹⁶

¹³ Diversity and STEM: Women, Minorities, and Persons with Disabilities (2023). National Science Foundation.

¹⁴ Labor force characteristics by race and ethnicity (2021). BLS Reports: U.S. Bureau of Labor Statistics.

¹⁵ Federal Reserve Bank of New York, February 2023.

¹⁶ Pew Research Center. (2021). “STEM Jobs See Uneven Progress in Increasing Gender, Racial and Ethnic Diversity.”

To this end, this competition includes an absolute priority focused on expanding the number of Hispanic and other underrepresented graduate and professional students served by the applicant institution, or the institutions that are part of the cooperative agreement application, through expanded courses and institutional resources. In responding to this absolute priority, applicants should demonstrate how they will expand academic offerings that prepare postbaccalaureate students for the workforce by developing or enhancing current course offerings in existing postgraduate degree, certificate, or credentialing programs or by establishing new postgraduate degree, certificate, or credentialing programs. Additionally, applicants are encouraged to form partnerships with other Hispanic-Serving Institutions (HSIs) and non-HSI IHEs that may assist the applicant IHE in leveraging resources and opportunities for apprenticeships, internships, workplace learning, or similar experiences for students.

This competition also includes two competitive preference priorities focused on meeting students' holistic needs and providing flexible, high-quality, and accessible learning opportunities, and three invitational priorities that support increasing the number of Hispanic doctoral candidates and graduates through collaboration, increasing the number of Hispanic educators, and increasing the number of Hispanics prepared for the STEM workforce.

Priorities: This notice contains one absolute priority, two competitive preference priorities, and three invitational priorities. In accordance with 34 CFR 75.105(b)(2)(v), the absolute priority is from allowable activities specified in the statute (see section 503(b)(14) of the Higher Education Act of 1965, as amended (HEA), 20 U.S.C. 1101b). The competitive preference priorities are from the Secretary's Supplemental Priorities and Definitions for Discretionary Grants Programs, published in the Federal Register on December 10, 2021 (86 FR 70612) (Supplemental Priorities).

Absolute Priority: For FY 2024 and any subsequent year in which we make awards from the list of unfunded applications from this competition, this priority is an absolute priority. Under 34 CFR 75.105(c)(3) we consider only applications that meet this priority.

The priority is:

Expanding the number of Hispanic and other underrepresented graduate and professional students that can be served by the institution by expanding courses and institutional resources.

Competitive Preference Priorities: For FY 2024 and any subsequent year in which we make awards from the list of unfunded applications from this competition, these priorities are competitive preference priorities. Under 34 CFR 75.105(c)(2)(i) we award up to an additional 15 points to an application, depending on how well the application meets each of these priorities. Applicants may respond to one or both priorities, for a total of up to 15 additional points.

These priorities are:

Competitive Preference Priority 1: Meeting Student Social, Emotional, and Academic Needs (up to 10 points).

Projects that are designed to improve students' social, emotional, academic, and career development, with a focus on underserved students, through one or both of the following areas:

(a) Creating education or work-based settings that are supportive, positive, identity-safe and inclusive with regard to race, ethnicity, culture, language, and disability status, through supporting students to engage in real-world hands-on learning that is aligned with classroom instruction and takes place in community-based settings, such as apprenticeships, pre-apprenticeships, work-based learning, and service learning, and in civic activities, that allow students to apply their knowledge and skills, strengthen their employability skills, and access career exploration opportunities. (up to 2 points)

(b) Creating a positive, inclusive, and identity-safe climate at IHEs through one or both of the following activities:

(1) Implementing evidence-based practices for advancing student success for underserved students. (up to 4 points)

(2) Providing evidence-based professional development opportunities designed to build asset-based mindsets for faculty and staff on campus and that are inclusive with regard to race, ethnicity, culture, language, and disability status. (up to 4 points)

Competitive Preference Priority 2: Increasing Postsecondary Education Access, Affordability, Completion, and Post-Enrollment Success (up to 5 points).

Projects that are designed to increase postsecondary access, affordability, completion, and success for underserved students by supporting the development and implementation of high-quality and accessible learning opportunities, including learning opportunities that are accelerated or hybrid online; credit-bearing; work-based; and flexible for working students.

Invitational Priorities: For FY 2024 and any subsequent year in which we make awards from the list of unfunded applications from this competition, these priorities are invitational priorities. Under 34 CFR 75.105(c)(1), we do not give an application that meets these invitational priorities a competitive or absolute preference over other applications. Applicants may respond to one, two, or all priorities.

These priorities are:

Invitational Priority 1: Improving the Hispanic Ph.D. Pipeline through Collaboration.

Projects that are supported by a consortium of HSIs, including no fewer than three HSIs that award Ph.D.s, and are designed to improve the Hispanic Ph.D. pipeline and increase the number of Hispanic Ph.D.s by supporting teaching, research, and resource sharing across institutions, creating mentorship opportunities, and supporting experiential learning, as well as other high-impact practices that have demonstrated positive results for Hispanic postbaccalaureate students.

Under this priority, we are particularly interested in projects designed to address the low percentage of Hispanics who both enroll in Ph.D. programs and attain the Ph.D. degree by establishing, improving, or expanding programs that—

(a) Increase the Hispanic student pipeline for Ph.D.s;

(b) Improve the academic preparation of postbaccalaureate students through course offerings, research opportunities (including study abroad opportunities), mentorship, and learning communities;

(c) Combine traditional academic training with industry-standard specialized knowledge and skills that will improve student educational outcomes; and

(d) Evaluate the association between the consortium's activities and Ph.D. attainment by Hispanic students.

Invitational Priority 2: Supporting the Hispanic Educator Pipeline.

Projects that are designed to establish or expand entry points into the educator pipeline, to increase the number of Hispanic educators, the number of Hispanic students earning postgraduate degrees in preparation for employment as an educator, or both.

Under this priority, we are particularly interested in projects designed to establish, improve, or expand programs that address one or more of the following—

(a) Recruit racially, ethnically, and linguistically diverse educators;

(b) Retain diverse educators by strengthening support networks and providing professional development; and

(c) Combine traditional academic training with specialized knowledge and skills that will prepare students for entry into the educator profession.

Invitational Priority 3: Increasing Hispanics in Science, Technology, Engineering, and Mathematics (STEM).

Projects that are designed to increase the number of Hispanic postbaccalaureate students and educators in STEM.

Under this priority, we are particularly interested in projects designed to establish, improve, or expand programs that—

(a) Identify and implement instructional strategies, systems, and structures that improve postsecondary learning and retention that leads to completion of a master's, Ph.D. or terminal degree in STEM;

(b) Combine traditional academic training with specialized knowledge and skills through research, apprenticeships, and technology applications that will prepare students for STEM fields; and

(c) Provide pathways for entry into the STEM workforce.

Definitions: The following definitions are from 34 CFR 77.1, with the exception of “educator” and “underserved student,” which are from the Supplemental Priorities. They apply to the priorities and selection criteria in this notice:

Baseline means the starting point from which performance is measured and targets are set.

Demonstrates a rationale means a key project component included in the project's logic model is informed by research or evaluation findings that suggest the project component is likely to improve relevant outcomes.

Educator means an individual who is an early learning educator, teacher, principal or other school leader, specialized instructional support personnel (e.g., school psychologist, counselor, school social worker, early intervention service personnel), paraprofessional, or faculty.

Evidence-based means the proposed project component is supported by promising evidence or evidence that demonstrates a rationale.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's Education Logic Model Application at https://ies.ed.gov/ncee/rel/Products/Region/pacific/Resource/100677.

Performance measure means any quantitative indicator, statistic, or metric used to gauge program or project performance.

Performance target means a level of performance that an applicant would seek to meet during the course of a project or as a result of a project.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by What Works Clearinghouse (WWC) reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcomes(s) the key project component is designed to improve, consistent with the specific goals of the program.

Underserved student means a student in postsecondary education in one or more of the following subgroups:

(a) A student who is living in poverty.

(b) A student of color.

(c) A pregnant, parenting, or caregiving student.

(d) A student who is the first in their family to attend postsecondary education.

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see 34 CFR 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbook released in August 2022 (Version 5.0), are available at https://ies.ed.gov/ncee/wwc/Handbooks.

Program Authority: 20 U.S.C. 1102-1102c.

Note: Projects will be awarded and must be operated in a manner consistent with the nondiscrimination requirements contained in Federal civil rights laws.

Applicable Regulations: (a) The Education Department General Administrative Regulations in 34 CFR parts 74, 75, 77, 79, 82, 84, 86, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 606. (e) The Supplemental Priorities. (f) Notice of final requirements for the PPOHA Program, published in the Federal Register on July 27, 2010 (75 FR 44056) (NFR).

II. Award Information

Type of Award: Discretionary grants. Five-year Individual Development Grants and Cooperative Arrangement Development Grants will be awarded in FY 2024.

Note: A cooperative arrangement is an arrangement to carry out allowable grant activities between an institution eligible to receive a grant under this competition and another eligible or ineligible IHE, under which the resources of the cooperating institutions are combined and shared to better achieve the purpose of the program and avoid costly duplication of effort.

Estimated Available Funds: The Administration has requested $28,845,000 for the PPOHA Program for FY 2024, of which we intend to use approximately $11,257,000 for new awards. The actual level of funding, if any, depends on final congressional action. However, we are inviting applications to allow enough time to complete the grant process if Congress appropriates funds for this program.

Contingent upon the availability of funds and the quality of applications, we may make additional awards in subsequent fiscal years from the list of unfunded applications from this competition.

Individual Development Grants:

Estimated Range of Awards: $500,000-$600,000 per year.

Estimated Average Size of Awards: $550,000 per year.

Maximum Awards: We will not make an award exceeding $600,000 for a single 12-month budget period.

Estimated Number of Awards: 11.

Cooperative Arrangement Development Grants:

Estimated Range of Awards: $600,000-$1,500,000.

Estimated Average Size of Awards: $1,000,000.

Maximum Award: We will not make an award exceeding $1,500,000 for a single 12-month budget period.

Estimated Number of Awards: 5.

Note: The Department is not bound by any estimates in this notice.

Project Period: Up to 60 months.

III. Eligibility Information and Supplemental Requirements

1. Eligible Applicants: IHEs that (a) qualify as an eligible HSI and (b) offer a postbaccalaureate certificate or postbaccalaureate degree program are eligible to apply for new grants under the PPOHA Program. See section 512(b) of the HEA (20 U.S.C. 1102a(b)).

An eligible IHE for purposes of the PPOHA Program, under sections 502 and 512(b) of the HEA (20 U.S.C. 1101a and 1102a(b)), must—

(a) Have an enrollment of needy students, as defined in section 502(b) of the HEA (section 502(a)(2)(A)(i) of the HEA; 20 U.S.C. 1101a(a)(2)(A)(i));

(b) Have, except as provided in section 522(b) of the HEA, average educational and general expenditures that are low, per full-time equivalent (FTE) undergraduate student, in comparison with the average educational and general expenditures per FTE undergraduate student of institutions that offer similar instruction (section 502(a)(2)(A)(ii) of the HEA; 20 U.S.C. 1101a(a)(2)(A)(ii));

Note 1: To demonstrate an enrollment of needy students and low average educational and general expenditures per FTE undergraduate student, an IHE must be designated as an “eligible institution” in accordance with 34 CFR 606.3 through 606.5 and the notice inviting applications for designation as an eligible institution for the fiscal year for which the grant competition is being conducted.

Note 2: Only institutions that the Department determines are eligible, or are granted a waiver, may apply for a grant in this program.

(c) Be accredited by a nationally recognized accrediting agency or association that the Secretary has determined to be a reliable authority as to the quality of education or training offered, or making reasonable progress toward accreditation, according to such an agency or association (section 502(a)(2)(A)(iv) of the HEA; 20 U.S.C.1101a(a)(2)(A)(iv));

(d) Be legally authorized to provide, and provide within the State, an educational program for which the institution awards a bachelor's degree (section 502(a)(2)(A)(iii)(I) of the HEA; 20 U.S.C. 1101a(a)(2)(A)(iii)(I)); and

(e) Have an enrollment of undergraduate FTE students that is at least 25 percent Hispanic students at the end of the award year immediately preceding the date of application (section 502(a)(5)(B) of the HEA; 20 U.S.C. 1101a(a)(5)(B)).

Note 3: Funds for the PPOHA Program will be awarded each fiscal year; thus, for this program, the “end of the award year immediately preceding the date of application” refers to the end of the fiscal year prior to the application due date. The end of the fiscal year occurs on September 30 for any given year.

Note 4: In considering applications for grants under this program, the Department will compare the data and documentation the institution relied on in its application with data reported to the Department's Integrated Postsecondary Education Data System (IPEDS), the IHE's State-reported enrollment data, and the institutional annual report. If different percentages or data are reported in these various sources, the institution must, as part of the 25 percent assurance verification, explain the reason for the differences. If the IPEDS data show that less than 25 percent of the institution's undergraduate FTE students are Hispanic, the burden is on the institution to show that the IPEDS data are inaccurate. If the IPEDS data indicate that the institution has an undergraduate FTE less than 25 percent, and the institution fails to demonstrate that the IPEDS data are inaccurate, the institution will be considered ineligible.

(f) A grantee under the PPOHA Program, which is authorized by title V of the HEA, may not receive a grant under any HEA, title III, part A or part B program during the period for which funds under this program are awarded (section 505 of the HEA; 20 U.S.C. 1101d). The title III, part A programs include: the Strengthening Institutions Program; the American Indian Tribally Controlled Colleges and Universities Program; the Alaska Native and Native Hawaiian-Serving Institutions Programs; the Asian American and Native American Pacific Islander-Serving Institutions Program; the Predominantly Black Institutions Program; and the Native American-Serving Non-Tribal Institutions Program. Title III, part B includes the Strengthening Historically Black Colleges and Universities Program.

(g) An eligible IHE may not submit more than one Individual Development Grant application, be the lead applicant for more than one Cooperative Arrangement Development Grant, or submit an Individual Development Grant application and be the lead applicant for a Cooperative Arrangement Development Grant application in this competition. A grantee with an Individual Development Grant or a Cooperative Arrangement Development Grant may be a partner in one or more Cooperative Arrangement Development Grants. The lead institution in a Cooperative Arrangement Development Grant must be an eligible institution.

(h) A PPOHA Program grantee may use not more than 20 percent of its total PPOHA Program grant award to provide financial support in the form of scholarships, fellowships, and other student financial assistance to low-income students (see NFR).

(i) Nothing in this notice alters a grantee's obligations to comply with Federal civil rights laws.

2. a. Cost Sharing or Matching: This program does not require cost sharing or matching unless the grantee uses a portion of its grant for establishing or improving an endowment fund. If a grantee uses a portion of its grant for endowment fund purposes, it must match or exceed those grant funds with non-Federal funds (section 503(c)(2) of the HEA; 20 U.S.C. 1101b(c)(2)).

b. Supplement-Not-Supplant: This competition involves supplement-not-supplant funding requirements.

c. Indirect Cost Rate Information: This program uses a restricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: local educational agencies; State educational agencies; IHEs; nonprofit organizations. The grantee may award subgrants to entities it has identified in an approved application or that it selects through a competition under procedures established by the grantee.

4. Other: This program is subject to the Build America, Buy America Act (Pub. L. 117-58). This means that, under this program, grantees and their subrecipients and contractors may not use their grant funds for infrastructure projects or activities (e.g., construction and broadband infrastructure) unless—

(a) All iron and steel used in the infrastructure project or activity are produced in the United States;

(b) All manufactured products used in the infrastructure project or activity are produced in the United States; and

(c) All construction materials are manufactured in the United States.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application.

2. Submission of Proprietary Information: Given the types of projects that may be proposed in applications for the PPOHA Program, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600 (Predisclosure Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: We specify unallowable costs in 34 CFR 606.10(c). We reference additional regulations outlining funding restrictions in the Applicable Regulations section of this notice.

5. Recommended Page Limit: The application narrative is where you, the applicant, address the selection criteria that reviewers use to evaluate your application. We recommend that you (1) limit the application narrative to no more than 55 pages for an Individual Development grant and no more than 65 pages for a Cooperative Arrangement Development Grant and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger, and no smaller than 10 pitch (characters per inch).

• Use one of the following fonts: Times New Roman, Courier, Courier New, or Arial.

The recommended page limit applies to the Project Narrative, which is your complete response to the selection criteria and, if applicable, the competitive preference priorities. However, the page limit does not apply to the Application for Federal Assistance form (SF-424); the ED SF-424 Supplement form; the Budget Information—Non-Construction Programs form (ED 524); the assurances and certifications; or the one-page project abstract, the program profile form, and supporting budget narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210, 606.8, and 606.22. Applicants should address each of the following selection criteria separately for each proposed activity. We will award up to 100 points to an application under the selection criteria and up to 15 additional points to an application under the competitive preference priorities, for a total score of up to 115 points. The maximum score for each criterion is noted in parentheses.

(a) Quality of the applicant's comprehensive development plan. (up to 25 points)

The Secretary evaluates each application for a development grant based on the extent to which—

(1) The strengths, weaknesses, and significant problems of the institution's academic programs, institutional management, and fiscal stability are clearly and comprehensively analyzed and result from a process that involved major constituencies of the institution (up to 5 points);

(2) The goals for the institution's academic programs, institutional management, and fiscal stability are realistic and based on comprehensive analysis (up to 5 points);

(3) The objectives stated in the plan are measurable, related to institutional goals, and, if achieved, will contribute to the growth and self-sufficiency of the institution (up to 5 points);

(4) The plan clearly and comprehensively describes the methods and resources the institution will use to institutionalize practice and improvements developed under the proposed project, including, in particular, how operational costs for personnel, maintenance, and upgrades of equipment will be paid with institutional resources (up to 5 points); and

(5) The 5-year plan describes how the applicant will improve its services to Hispanic and other low-income students (up to 5 points).

Note: Under 34 CFR 606.8(a), a comprehensive development plan is an institution's strategy for achieving growth and self-sufficiency by strengthening its (1) academic programs; (2) institutional management; and (3) fiscal stability.

(b) Quality of the project design. (up to 15 points)

The Secretary considers the quality of the design of the proposed project. In determining the quality of the design of the proposed project, the Secretary considers the following:

(1) The extent to which the proposed project demonstrates a rationale (as defined in this notice) (up to 10 points); and

(2) The extent to which the proposed project is supported by promising evidence (as defined in this notice) (up to 5 points).

Note: To establish that their projects “demonstrate a rationale,” applicants must use a logic model (as defined in this notice) and identify research or evaluation findings suggesting that a key project component is likely to improve relevant outcome. To establish that their projects are supported by “promising evidence,” applicants should cite the supporting study or studies that meet the conditions in the definition of “promising evidence” and attach the study or studies as part of the application attachments. In addressing “promising evidence,” applicants are encouraged to align the direct student services proposed in the application to evidence-based practices identified in the selected studies. Note that the research cited to address the “promising evidence” criterion can be the same research provided to demonstrate a rationale, but only applications that include logic models can receive full points under the “demonstrate a rationale” selection factor. In addition, applicants should also consider how the cited promising evidence studies can be incorporated into their evaluation plan to produce evidence of project effectiveness.

(c) Quality of activity objectives. (up to 10 points)

The extent to which the objectives for each activity are—

(1) Realistic and defined in terms of measurable results (up to 5 points); and

(2) Directly related to the problems to be solved and to the goals of the comprehensive development plan (up to 5 points).

(d) Quality of implementation strategy. (up to 20 points)

The extent to which—

(1) The implementation strategy for each activity is comprehensive (up to 10 points);

(2) The rationale for the implementation strategy for each activity is clearly described and is supported by the results of relevant studies or projects (up to 5 points); and

(3) The timetable for each activity is realistic and likely to be attained (up to 5 points).

(e) Quality of the project management plan. (up to 8 points)

The extent to which—

(1) Procedures for managing the project are likely to ensure efficient and effective project implementation (up to 4 points); and

(2) The project coordinator and activity directors have sufficient authority to conduct the project effectively, including access to the president or chief executive officer (up to 4 points).

(f) Quality of key personnel. (up to 4 points)

The extent to which—

(1) The past experience and training of key professional personnel are directly related to the stated activity objectives (up to 2 points); and

(2) The time commitment of key personnel is realistic (up to 2 points).

(g) Quality of evaluation plan. (up to 14 points)

The extent to which—

(1) The data elements and the data collection procedures are clearly described and appropriate to measure the attainment of activity objectives and to measure the success of the project in achieving the goals of the comprehensive development plan (up to 5 points);

(2) The data analysis procedures are clearly described and are likely to produce formative and summative results on attaining activity objectives and measuring the success of the project on achieving the goals of the comprehensive development plan (up to 5 points); and

(3) The methods of evaluation will, if well implemented, produce promising evidence (as defined in this notice) about the project's effectiveness (up to 4 points).

(h) Budget. (up to 4 points)

The extent to which the proposed costs are necessary and reasonable in relation to the project's objectives and scope.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

A panel of three non-Federal reviewers will review and score each application in accordance with the selection criteria in this notice, as well as the competitive preference priorities. A rank order funding slate will be made from this review. Awards will be made in rank order according to the average score received from the peer review.

In the event there are two or more applications with the same final score, and there are insufficient funds to fully support each of these applications, the Department applies the following tie-breaking factors.

To resolve ties in the reader scores of applications for development grants, the Department will award one additional point to an application from an IHE that has an endowment fund for which the current market value, per FTE enrolled student, is less than the comparable average current market value of the endowment funds, per FTE enrolled student, at comparable institutions that offer similar instruction. If a tie remains after applying the preceding tiebreaker, the Department will award one additional point to an application from an IHE that has expenditures for library materials per FTE enrolled student that are less than the comparable average expenditures for library materials per FTE enrolled student at comparable institutions that offer similar instruction. (34 CFR 606.23(b)(1) and (2)). For the purpose of these funding considerations, we will use the most recent complete data available (e.g., for FY 2024, we will use 2021-22 data).

If a tie remains after applying the preceding tiebreaker, priority will be given for Individual Development Grants to applicants that have the lowest endowment values per FTE student. (See 34 CFR 606.23(b)(1)).

3. Risk Assessment and Specific Conditions: Consistent with 2 CFR 200.206, before awarding grants under this program, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a GAN; or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: For the purpose of Department reporting under 34 CFR 75.110, the Secretary has established the following key performance measures for assessing the effectiveness of the PPOHA Program:

(a) The percentage change, over the 5-year grant period, of the number of full-time degree-seeking graduate and professional students enrolled at HSIs currently receiving an award under this program.

(b) The percentage change, over the 5-year grant period, of the number of master's, doctoral, and first-professional degrees and postbaccalaureate certificates awarded at HSIs currently receiving an award under this program.

(c) The Federal cost per master's, doctoral, and first-professional degree and postbaccalaureate certificate awarded at HSIs currently receiving an award under this program.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Nasser H. Paydar,
Assistant Secretary for the Office of Postsecondary Education.

[FR Doc. 2024-05463 Filed 3-13-24; 8:45 am]

BILLING CODE 4000-01-P